NATIONAL SCIENCE FOUNDATION

Sunshine Act Meetings

FEDERAL REGISTER CITATION OF PREVIOUS ANNOUNCEMENT: 86 FR 17644, April 5, 2021.

PREVIOUSLY ANNOUNCED TIME AND DATE OF THE MEETING: The National Science Board's Committee on Strategy closed teleconference meeting scheduled for April 8, 2021, from 11 a.m.-12:00 p.m. EDT.

CHANGES IN THE MEETING: The meeting was postponed. The new date and time will be published as soon as it is rescheduled.

CONTACT PERSON FOR MORE INFORMATION: Chris Blair, 703/292-7000, cblair@nsf.gov.

Chris Blair,
Executive Assistant to the National Science Board Office.

[FR Doc. 2021-07589 Filed 4-9-21; 11:15 am]

BILLING CODE 7555-01-P